DEPARTMENT OF COMMERCE

National Oceanic and Atmospheric Administration

50 CFR Part 648

[Docket No. 070627217-7218-01]

RIN 0648-AV70

Magnuson-Stevens Fishery Conservation and Management Act Provisions; Fisheries of the Northeastern United States; Northeast Region Standardized Bycatch Reporting Methodology Omnibus Amendment

AGENCY: National Marine Fisheries Service (NMFS), National Oceanic and Atmospheric Administration (NOAA), Commerce.

ACTION: Proposed rule; extension of comment period.

SUMMARY: NMFS extends for 4 days the comment period on the proposed rule to implement the Standardized Bycatch Reporting Methodology (SBRM) Omnibus Amendment (SBRM Amendment) to the Fishery Management Plans (FMPs) of the Northeast Region, developed by the Mid-Atlantic and New England Fishery Management Councils (Councils).

DATES: The deadline for written comments on the August 21, 2007 (72 FR 46588), proposed rule is extended from September 20, 2007, to no later than 5 p.m. on September 24, 2007.

ADDRESSES: You may submit comments by any of the following methods:

• E-mail: SBRM.Amend.PR@noaa.gov. Include in the subject line the following identifier: “Comments on the Proposed Rule to implement the SBRM Omnibus Amendment.”

• Federal e-rulemaking portal: http:/www.regulations.gov.

• Mail: Patricia A. Kurkul, Regional Administrator, NMFS, Northeast Regional Office, One Blackburn Drive, Gloucester, MA 01930. Mark the outside of the envelope: “Comments on the Proposed Rule to implement the SBRM Omnibus Amendment.”

• Fax: (978) 281-9135

Copies of the SBRM Amendment, and of the draft Environmental Assessment and preliminary Regulatory Impact Review (EA/RIR), are available from Daniel T. Furlong, Executive Director, Mid-Atlantic Fishery Management Council, Room 2115, Federal Building, 300 South New Street, Dover, DE 19901-6790; and from Paul J. Howard, Executive Director, New England Fishery Management Council, 50 Water Street, Newburyport, MA 01950. The EA/RIR is also accessible via the Internet at http://www.nero.noaa.gov.

FOR FURTHER INFORMATION CONTACT: Michael Pentony, Senior Fishery Policy Analyst, 978-281-9283.

SUPPLEMENTARY INFORMATION:

Background

Section 303(a)(11) of the Magnuson-Stevens Act requires that all FMPs “establish a standardized reporting methodology to assess the amount and type of bycatch occurring in the fishery.” In 2004, several conservation organizations challenged the approval of two major amendments to Northeast Region FMPs. In ruling on these suits, the U.S. District Court for the District of Columbia found that the FMPs did not clearly establish an SBRM as required under the relevant section of the Magnuson-Stevens Act and remanded the amendments back to the agency to fully develop and establish the required SBRM. In particular, the Court found that the amendments (1) failed to fully evaluate reporting methodologies to assess bycatch, (2) did not mandate an SBRM, and (3) failed to respond to potentially important scientific evidence.

In response, the Councils, working closely with NMFS, undertook development of a remedy that would address all Northeast Region FMPs. The Councils took final action to adopt the SBRM Amendment at their meetings in June 2007, and submitted the amendment for review shortly thereafter. This amendment covers 13 FMPs, 39 managed species, and 14 types of fishing gear. The purpose of the amendment is to: Explain the methods and processes by which bycatch is currently monitored and assessed for Northeast Region fisheries; determine whether these methods and processes need to be modified and/or supplemented; establish standards of precision for bycatch estimation for all Northeast Region fisheries; and, thereby, document the SBRM established for all fisheries managed through the FMPs of the Northeast Region. The amendment also responds to the “potentially important scientific evidence” cited by the Court in the two decisions referenced above.

On July 26, 3007 (72 FR 41047), NMFS published a notice of availability that requested comments on the SBRM Amendment and draft Environmental Assessment. The comment period on the notice of availability closes on September 24, 2007. On August 21, 2007 (72 FR 46588), NMFS published a proposed rule that requested comments on the regulations to implement the SBRM Amendment. The comment period on the proposed rule was scheduled to close on September 20, 2007. In order to provide the maximum opportunity for the public to review and provide comments on the proposed rule to implement the SBRM Amendment, NMFS is extending the comment period on the proposed rule to 5 p.m. on September 24, 2007. With this extension, both comment periods will end at the same time.

Dated: September 17, 2007.
Samuel D. Rauch III,
Deputy Assistant Administrator For Regulatory Programs, National Marine Fisheries Service.

[FR Doc. E7-18590 Filed 9-19-07; 8:45 am]

BILLING CODE 3510-22-S